DEPARTMENT OF ENERGY

Federal Energy Regulatory Commission

[Docket No. ER00-3466-000]

IGI Resources, Inc.; Notice of Filing

August 24, 2000.

Take notice that on August 23, 2000, IGI Resources, Inc. (IGI), tendered for filing a Notice of Cancellation of its FERC Electric Rate Schedule No. 1. IGI requests that the Commission act in an expedited manner and accept the notice of cancellation by no later than August 31, 2000, to be effective August 23, 2000.

Any person desiring to be heard or to protest such filing should file a motion to intervene or protest with the Federal Energy Regulatory Commission, 8888 First Street, NE., Washington, DC 20426, in accordance with Rules 211 and 214 of the Commission's Rules of Practice and Procedure (18 CFR 385.211 and 385.214). All such motions and protests should be filed on or before September 5, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-22149 Filed 8-29-00; 8:45 am]

BILLING CODE 6717-01-M